SMALL BUSINESS ADMINISTRATION

[Declaration of Disaster #3291; Amendment #3]

State of Idaho

In accordance with information received from the Federal Emergency Management Agency, dated October 20, 2000, the above-numbered Declaration is hereby amended to extend the deadline for filing applications for physical damage caused by this disaster from October 31, 2000 to November 30, 2000.

All other information remains the same, i.e., the deadline for filing applications for economic injury is June 1, 2001.

(Catalog of Federal Domestic Assistance Program Nos. 59002 and 59008)

Dated: October 25, 2000.
Herbert L. Mitchell,
Acting Associate Administrator for Disaster Assistance.

[FR Doc. 00-28451 Filed 11-6-00; 8:45 am]

BILLING CODE 8025-01-P